DEPARTMENT OF TRANSPORTATION

Office of the Secretary

49 CFR Part 10

[Docket No. OST-1996-1437]

Privacy Act of 1974: Implementation of Exemptions; DOT/ALL 23—Information Sharing Environment (ISE) Suspicious Activity Reporting (SAR) Initiative System of Records

AGENCY: Office of the Secretary (OST), Department of Transportation (DOT).

ACTION: Final rule.

SUMMARY: The Department of Transportation is issuing a final rule to amend its regulations to exempt portions of a newly established system of records titled, “DOT/ALL 23—Information Sharing Environment (ISE) Suspicious Activity Reporting (SAR) Initiative System of Records” from certain provisions of the Privacy Act. Specifically, the Department exempts portions of the “DOT/ALL 23—Information Sharing Environment (ISE) Suspicious Activity Reporting (SAR) Initiative System of Records” from one or more provisions of the Privacy Act because of criminal, civil, and administrative enforcement requirements.

DATES: Effective Date: This final rule is effective December 21, 2011.

FOR FURTHER INFORMATION CONTACT: Claire W. Barrett, Departmental Chief Privacy Officer, Office of the Chief Information Officer, U.S. Department of Transportation, 1200 New Jersey Avenue SE., Washington, DC 20590 or privacy@dot.gov or (202) 366-8135.

SUPPLEMENTARY INFORMATION:

Background

The Department of Transportation (DOT), Office of the Secretary (OST) published a notice of proposed rulemaking in the Federal Register (Volume 76, Number 173), September 7, 2011, proposing to exempt portions of the system of records from one or more provisions of the Privacy Act because of criminal, civil, and administrative enforcement requirements. The system of records is the DOT/ALL 23—Information Sharing Environment (ISE) Suspicious Activity Reporting (SAR) Initiative System of Records. The DOT/ALL 23—Information Sharing Environment (ISE) Suspicious Activity Reporting (SAR) Initiative system of records notice was published concurrently in the Federal Register (Volume 76, Number 184), September 22, 2011, and comments were invited on both the Notice of Proposed Rulemaking (NPRM) and System of Records Notice (SORN).

Public Comments

DOT received no comments on the NPRM and no comments on the SORN.

List of Subjects in 49 CFR Part 10

Authority delegations (government agencies); Organization and functions (government agencies); Transportation Department.

In consideration of the foregoing, DOT amends part 10 of title 49, Code of Federal Regulations, as follows:

PART 10—MAINTENANCE OF AND ACCESS TO RECORDS PERTAINING TO INDIVIDUALS

1. The authority citation for part 10 continues to read as follows:

Authority: Pub. L. 93-579; 49 U.S.C. 322.

2. In the Appendix to Part 10, revise Part II.A. introductory text, and add Part II.A.8 to read as follows:

Appendix to Part 10—Exemptions

* * * * *

Part II. Specific Exemptions

A. The following systems of records are exempt from subsection (c)(3) (Accounting of Certain Disclosures), (d) (Access to Records), (e)(4)(G), (H), and (I) (Agency Requirements), and (f) (Agency Rules) of 5 U.S.C. 552a, to the extent that they contain investigatory material compiled for law enforcement purposes, in accordance 5 U.S.C. 552a(k)(2):

* * * * *

8. Suspicious Activity Reporting (SAR) database, maintained by the Office of Intelligence, Security, and Emergency Response, Office of the Secretary.

* * * * *

Issued in Washington, DC, on December 12, 2011.
Claire W. Barrett,
Departmental Chief Privacy Officer.

[FR Doc. 2011-32351 Filed 12-20-11; 8:45 am]

BILLING CODE 4910-62-P